DEPARTMENT OF COMMERCE

International Trade Administration

[A-549-813]

Notice of Decision of the Court of International Trade: Canned Pineapple Fruit From Thailand

AGENCY: Import Administration, International Trade Administration, Department of Commerce.

ACTION: Notice of decision of the Court of International Trade.

SUMMARY: On September 15, 2003, the United States Court of International Trade (CIT) affirmed the Department of Commerce's results of redetermination on remand of the final results of the fifth administrative review of the antidumping duty order on canned pineapple fruit from Thailand. See Maui Pineapple Company, Ltd. v. United States, Slip Op. 03-120 (September 15, 2003), Court No. 01-01017 (Maui Pineapple). Consistent with the decision of the United States Court of Appeals for the Federal Circuit (Federal Circuit) in Timken Co. v. United States, 893 F.2d 337 (Fed. Cir. 1990) (Timken), the Department of Commerce (the Department) is notifying the public that Maui Pineapple and the CIT's earlier opinion in this case were “not in harmony” with the Department's original results.

EFFECTIVE DATE: October 1, 2003.

FOR FURTHER INFORMATION CONTACT: David Layton or Charles Riggle, Office 5, Group II, AD/CVD Enforcement, Import Administration, International Trade Administration, U.S. Department of Commerce, 14th Street and Constitution Avenue, NW., Washington, DC 20230; telephone: (202) 482-0371 and (202) 482-0650, respectively.

Background

On October 17, 2001, the Department published a notice of the final results of the fifth review of canned pineapple fruit from Thailand. See Notice of Final Results of Antidumping Duty Administrative Review and Rescission of Administrative Review in Part: Canned Pineapple Fruit From Thailand, 66 FR 52744 (October 17, 2001) (Final Results). Subsequent to the Department's Final Results, Maui Pineapple Company, Ltd. filed a lawsuit challenging these results. Thereafter, the CIT issued an Order and Opinion dated April 16, 2003 in remanding two issues to the Department. See Maui Pineapple Company, Ltd. v. United States, 264 F.Supp.2d 1244 (Ct. Int'l Trade 2003) (September 15, 2003), Court No. 01-01017. Pursuant to the CIT's April 16, 2003 Order and Opinion, the Department filed its remand results on June 16, 2003. On September 15, 2003, the CIT affirmed the Department's final results of redetermination in Maui Pineapple.

Timken Notice

In its decision in Timken, the Federal Circuit held that, pursuant to 19 U.S.C. 1516a(e), the Department must publish notice of a decision of the CIT which is “not in harmony” with the Department's results. The CIT's decision in Maui Pineapple and its April 16, 2003 Order and Opinion in this case were not in harmony with the Department's final antidumping duty results of review. Therefore, publication of this notice fulfills the obligation imposed upon the Department by the decision in Timken. In addition, this notice will serve to continue the suspension of liquidation. If this decision is not appealed, or if appealed, if it is upheld, the Department will publish amended final antidumping duty results.

Dated: September 25, 2003,
James J. Jochum,
Assistant Secretary for Import Administration.

[FR Doc. 03-24905 Filed 9-30-03; 8:45 am]

BILLING CODE 3510-DS-P